DEPARTMENT OF THE INTERIOR

Bureau of Land Management

[ES-030-1430-ET; WIES 032707]

Notice of Proposed Withdrawal Extension and Correction of Public Land Order No. 6619; Opportunity for Public Meeting; Wisconsin

AGENCY: Bureau of Land Management, Interior.

ACTION: Notice.

SUMMARY: As required by 43 CFR 2310.3-1, notice is hereby given that the Bureau of Land Management (BLM) proposes to extend Public Land Order (PLO) No. 6619 for an additional 20-year period. This order withdrew 4,107 acres of public land in Juneau County, Wisconsin, from surface entry and reserved the land for use by the U.S. Fish and Wildlife Service to manage in conjunction with the Necedah National Wildlife Refuge. This notice also gives an opportunity to comment on the proposed action and to request a public meeting. This notice also corrects an error in the legal description published in the Federal Register on July 25, 1986 (51 FR 26687).

DATES: Comments and requests for a public meeting must be received by January 24, 2006.

ADDRESSES: Comments and meeting requests should be sent to the State Director, BLM-Eastern States, 7450 Boston Boulevard, Springfield, Virginia 22153.

FOR FURTHER INFORMATION CONTACT: Ed Ruda, BLM-Eastern States, 703-440-1663.

SUPPLEMENTARY INFORMATION: The withdrawal created by PLO No. 6619 will expire on July 24, 2006, unless extended. The U.S. Fish and Wildlife Service has filed an application to extend PLO No. 6619. This withdrawal was made to allow management of the following described land as part of the Necedah National Wildlife Refuge:

Fourth Principal Meridian

T. 18 N., R. 2 E.,

Secs. 1 and 12.

T. 18 N., R. 3 E.,

Secs. 6, 7, 8, 9, 15, and 16 (Those parts lying south and west of Grand Dike Road); sec. 17.

The area described contains 4,107 acres in Juneau County.

The legal description above has been corrected to include only those parts of sec. 16 in T. 18 N., R. 3 E., lying south and west of Grand Dike Road. There is no change in the total acres.

The purpose of the proposed extension is to continue the withdrawal created by PLO No. 6619 for an additional 20-year term to allow the U.S. Fish and Wildlife Service to continue to manage the land as part of the Necedah National Wildlife Refuge.

There are no suitable alternative sites since the lands described herein contain the natural resources and improvements of interest for protection.

No water rights will be needed to fulfill the purpose of the requested withdrawal. For a period of 90 days from the date of publication of this notice, all persons who wish to submit comments, suggestions, or objections in connection with the proposed withdrawal may present their views in writing to the State Director of the BLM-Eastern States.

Comments, including names and street addresses of respondents, will be available for public review at the BLM-Eastern States, Milwaukee Field Office, 626 E. Wisconsin Avenue, Suite 200, Milwaukee, Wisconsin 53202 during regular business hours 7:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the State Director, BLM-Eastern States within 90 days from the date of publication of this notice. If the authorized officer determines that a public meeting will be held, a notice of the time and place will be published in the Federal Register at least 30 days before the scheduled date of the meeting.

This withdrawal extension proposal will be processed in accordance with the regulations set forth in 43 CFR 2310.4.

(Authority: 43 CFR 2310.3-1)

Dated: October 19, 2005.
Ann B. Aldrich,
Acting State Director, Eastern States.

[FR Doc. 05-21394 Filed 10-25-05; 8:45 am]

BILLING CODE 4310-55-P